DEPARTMENT OF ENERGY

Federal Energy Regulatory Commission

Combined Notice of Filings #1

October 15, 2010.

Take notice that the Commission received the following electric corporate filings:

Docket Numbers: EC11-6-000.

Applicants: Tanglewood Storage & Transportation LLC, J.P. Morgan Ventures Energy Corporation, Sempra Energy Trading LLC.

Description: Application for Authorization for Disposition and Acquisition of Jurisdictional Facilities and Request for Expedited Action of Sempra Energy Trading LLC et al.

Filed Date: 10/14/2010.

Accession Number: 20101014-5127.

Comment Date: 5 p.m. Eastern Time on Thursday, November 4, 2010.

Take notice that the Commission received the following electric rate filings:

Docket Numbers: ER10-1706-002.

Applicants: California Independent System Operator Corporation.

Description: California Independent System Operator Corporation submits tariff filing per 35: 2010-09-30 CAISO's IRRP Compliance Filing to be effective 7/3/2010.

Filed Date: 09/30/2010.

Accession Number: 20100930-5467.

Comment Date: 5 p.m. Eastern Time on Monday, October 25, 2010.

Docket Numbers: ER10-1750-000, ER10-1750-001, ER10-1751-000; ER10-1751-001.

Applicants: Stream Energy Pennsylvania, LLC.

Description: Stream Energy Pennsylvania, LLC et al. submits additional information requested by FERC reestablishment of a shortened 10-day comment period.

Filed Date: 10/13/2010.

Accession Number: 20101014-0009.

Comment Date: 5 p.m. Eastern Time on Wednesday, October 27, 2010.

Docket Numbers: ER11-96-000.

Applicants: NSTAR Electric Company.

Description: NSTAR Electric Company submits tariff filing per 35.13(a)(2)(iii): Belmont Transmission Service Agreement—2008 Amendments to be effective 10/13/2010.

Filed Date: 10/13/2010.

Accession Number: 20101013-5046.

Comment Date: 5 p.m. Eastern Time on Wednesday, November 3, 2010.

Docket Numbers: ER11-116-000.

Applicants: Virginia Electric and Power Company.

Description: Notice of Cancellation of Generator Interconnection and Operating Agreement of Virginia Electric and Power Company.

Filed Date: 10/14/2010.

Accession Number: 20101014-5116.

Comment Date: 5 p.m. Eastern Time on Thursday, November 4, 2010.

Docket Numbers: ER11-117-000.

Applicants: OGE Energy Resources, Inc.

Description: Notice of Cancellation of Market-Based Rate Tariff and Request for Waiver of Notice Period of OGE Energy Resources, Inc.

Filed Date: 10/14/2010.

Accession Number: 20101014-5126.

Comment Date: 5 p.m. Eastern Time on Thursday, November 4, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-26757 Filed 10-21-10; 8:45 am]

BILLING CODE 6717-01-P